DEPARTMENT OF HEALTH AND HUMAN SERVICES

National Institutes of Health

Center for Scientific Review; Amended Notice of Meeting

Notice is hereby given of a change in the meeting of the Center for Scientific Review Special Emphasis Panel, August 6, 2009, 1 p.m. to August 6, 2009, 4 p.m., Sheraton Delfina Hotel, 530 West Pico Boulevard, Santa Monica, CA, 90405 which was published in the Federal Register on June 8, 2009, 74 FR 27156-27160.

The meeting has been changed to a telephone conference at the National Institutes of Health, 6701 Rockledge Drive, Bethesda, MD 20892. The meeting date and time remain the same. The meeting is closed to the public.

Dated: June 30, 2009.
Jennifer Spaeth,
Director, Office of Federal Advisory Committee Policy.

[FR Doc. E9-16116 Filed 7-8-09; 8:45 am]

BILLING CODE 4140-01-P